ENVIRONMENTAL PROTECTION AGENCY

40 CFR Parts 87, 1030, and 1031

[EPA-HQ-OAR-2019-0660; FRL-9354-02 OAR]

RIN 2060-AU69

Control of Air Pollution From Aircraft Engines: Emission Standards and Test Procedures; Rescheduling of Public Hearing

AGENCY: Environmental Protection Agency (EPA).

ACTION: Proposed rule; rescheduling of public hearing.

SUMMARY: The Environmental Protection Agency (EPA) is announcing a virtual public hearing to be held on February 17, 2022, on its proposed rulemaking for particulate matter (PM) emission standards for aircraft engines, which was signed on December 17, 2021. This hearing is being rescheduled from the previous date of January 20, 2022.

DATES: EPA will hold a virtual public hearing on February 17, 2022. The hearing will begin at 1 p.m. Eastern Time (ET) and end when all parties who wish to speak have had an opportunity to do so. Please refer to the SUPPLEMENTARY INFORMATION section for additional information on the public hearing.

ADDRESSES: The public hearing will be held virtually. Additional information regarding the hearing appears below under the SUPPLEMENTARY INFORMATION.

FOR FURTHER INFORMATION CONTACT: Bryan Manning, Office of Transportation and Air Quality, Assessment and Standards Division, Environmental Protection Agency, 2000 Traverwood Drive, Ann Arbor, MI 48105; telephone number: 734-214-4832; email address: manning.bryan@epa.gov.

SUPPLEMENTARY INFORMATION: The Environmental Protection Agency (EPA) is proposing PM emission standards and test procedures applicable to certain classes of engines used by civil subsonic jet airplanes (those engines with rated output of greater than 26.7 kilonewtons (kN)). These proposed standards and test procedures are equivalent to the aircraft engine standards adopted by the United Nations' International Civil Aviation Organization (ICAO) in 2017 and 2020. The proposed rulemaking was signed on December 17, 2021, and it will be published separately in the Federal Register. The pre-publication version is available at https://www.epa.gov/regulations-emissions-vehicles-and-engines/proposed-rule-control-air-pollution-aircraft-engines.

Participation in virtual public hearing. Please note that EPA is deviating from its typical approach because the President has declared a national emergency. Because of current recommendations from the Centers for Disease Control and Prevention (CDC), as well as state and local orders for social distancing to limit the spread of COVID-19, EPA cannot hold in-person public meetings at this time.

EPA is also asking all hearing attendees to register for the hearing, even those who do not intend to provide testimony, by February 14, 2022. Information on how to register for the hearing can be found at https://www.epa.gov/regulations-emissions-vehicles-and-engines/proposed-rule-control-air-pollution-aircraft-engines. For those without internet access, contact the person listed in the FOR FURTHER INFORMATION CONTACT section to register.

The last day to pre-register to speak at the hearing will be February 14, 2022. The virtual public hearing will provide interested parties the opportunity to present data, views, or arguments concerning the proposal (the official version of which was signed on December 17, 2021 and a copy of which is available at https://www.epa.gov/regulations-emissions-vehicles-and-engines/proposed-rule-control-air-pollution-aircraft-engines). EPA may ask clarifying questions during the oral presentations but will not respond to the presentations at that time. Written statements and supporting information submitted during the comment period will be considered with the same weight as any oral comments and supporting information presented at the public hearing. EPA recommends submitting the text of your oral comments as written comments to the rulemaking Docket ID No. EPA-HQ-OAR-2019-0660, which can be found at https://www.regulations.gov.

The hearing will begin at 1:00 p.m. Eastern Time (ET) and end when all parties who wish to speak have had an opportunity to do so. A five-minute time limit will be placed on all oral testimony.

Please note that any updates made to any aspect of the hearing will be posted online at https://www.epa.gov/regulations-emissions-vehicles-and-engines/proposed-rule-control-air-pollution-aircraft-engines. While EPA expects the hearing to go forward as set forth above, please monitor our website or contact the person listed in the FOR FURTHER INFORMATION CONTACT section to determine if there are any updates. EPA does not intend to publish a document in the Federal Register announcing updates.

If you require the services of a translator or special accommodations such as audio description, please pre-register for the hearing and describe your needs by February 14, 2022. EPA may not be able to arrange accommodations without advance notice.

How can I get copies of the proposed action and other related information? EPA has established a docket for this action under Docket ID No. EPA-HQ-OAR-2019-0660, which can be found at https://www.regulations.gov. EPA has also developed a website for this proposed rule at https://www.epa.gov/regulations-emissions-vehicles-and-engines/proposed-rule-control-air-pollution-aircraft-engines. Please refer to the notice of proposed rulemaking for detailed information on accessing information related to the proposal.

William Charmley,
Director, Assessment and Standards Division, Office of Transportation and Air Quality.

[FR Doc. 2022-00997 Filed 1-14-22; 4:15 pm]

BILLING CODE 6560-50-P